DEPARTMENT OF COMMERCE

National Oceanic and Atmospheric Administration

RIN 0648-XF252

Permanent Advisory Committee To Advise the U.S. Commissioners to the Western and Central Pacific Fisheries Commission; Meeting Announcement

AGENCY: National Marine Fisheries Service (NMFS), National Oceanic and Atmospheric Administration (NOAA), Commerce.

ACTION: Notice of public meeting.

SUMMARY: NMFS announces a public meeting of the Permanent Advisory Committee (PAC) to advise the U.S. Commissioners to the Commission for the Conservation and Management of Highly Migratory Fish Stocks in the Western and Central Pacific Ocean (WCPFC) on April 13, 2017. Meeting topics are provided under the SUPPLEMENTARY INFORMATION section of this notice. The meeting will be held via conference call.

DATES: The meeting of the PAC will be held via conference call on April 13, 2017, from 12 p.m. to 2 p.m. HST (or until business is concluded).

ADDRESSES: The public meeting will be conducted via conference call. For details on how to call in to the conference line, please contact Zora McGinnis, NMFS Pacific Islands Regional Office; telephone: 808-725-5037; email: zora.mcginnis@noaa.gov. Documents to be considered by the PAC will be sent out via email in advance of the conference call. Members of the public who are not current PAC members should submit contact information to Zora McGinnis (telephone: 808-725-5037; email: zora.mcginnis@noaa.gov) at least 3 days in advance of the call to receive documents via email. Written comments on meeting topics or materials may be submitted by the public either electronically or by mail to Zora McGinnis at the addresses provided above; comments may be submitted up to 3 days in advance of the meeting.

FOR FURTHER INFORMATION CONTACT: Zora McGinnis, NMFS Pacific Islands Regional Office; 1845 Wasp Blvd., Bldg. 176, Honolulu, HI 96818; telephone: 808-725-5037; facsimile: 808-725-5215; email: zora.mcginnis@noaa.gov.

SUPPLEMENTARY INFORMATION: In accordance with the Western and Central Pacific Fisheries Convention Implementation Act (16 U.S.C. 6901 et seq.), the Permanent Advisory Committee, or PAC, has been formed to advise the U.S. Commissioners to the WCPFC. Members of the PAC have been appointed by the Secretary of Commerce in consultation with the U.S. Commissioners to the WCPFC. The PAC supports the work of the U.S. National Section to the WCPFC in an advisory capacity. The U.S. National Section is made up of the U.S. Commissioners and the Department of State. NMFS Pacific Islands Regional Office provides administrative and technical support to the PAC in cooperation with the Department of State. More information on the WCPFC, established under the Convention on the Conservation and Management of Highly Migratory Fish Stocks in the Western and Central Pacific Ocean, can be found on the WCPFC Web site: http://www.wcpfc.int.

Meeting Topics

The purpose of the April 13, 2017, conference call is to discuss 2017 U.S. priorities in the WCPFC, discuss outcomes of the 2016 regular session of the WCPFC (WCPFC13), and discuss potential conservation and management measures for tropical tunas and other issues of interest.

Special Accommodations

The conference call is accessible to people with disabilities. Requests for sign language interpretation or other auxiliary aids should be directed to Zora McGinnis at 808-725-5037 at least 10 working days prior to the meeting.

Authority: 6 U.S.C. 6902 et seq.

Dated: March 9, 2017.
Karen H. Abrams.
Acting Deputy Director, Office of Sustainable Fisheries, National Marine Fisheries Service.

[FR Doc. 2017-05066 Filed 3-14-17; 8:45 am]

BILLING CODE 3510-22-P